ENVIRONMENTAL PROTECTION AGENCY

[EPA-HQ-OECA-2014-0097; FRL-9923-32-OEI]

Information Collection Request Submitted to OMB for Review and Approval; Comment Request; NESHAP for Plating and Polishing Area Sources (Renewal)

AGENCY: Environmental Protection Agency (EPA).

ACTION: Notice.

SUMMARY: The Environmental Protection Agency (EPA) has submitted an information collection request (ICR), “NESHAP for Plating and Polishing Area Sources (40 CFR part 63, subpart WWWWWW) (Renewal)” (EPA ICR No. 2294.04, OMB Control No. 2060-0623), to the Office of Management and Budget (OMB) for review and approval in accordance with the Paperwork Reduction Act (44 U.S.C. 3501 et seq). This is a proposed extension of the ICR, which is currently approved through April 30, 2015. Public comments were previously requested via the Federal Register (79 FR 30117) on May 27, 2014 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before April 27, 2015.

ADDRESSES: Submit your comments, referencing Docket ID Number EPA-HQ-OECA-2014-0097, to (1) EPA online using www.regulations.gov (our preferred method), or by email to docket.oeca@epa.gov, or by mail to: EPA Docket Center, Environmental Protection Agency, Mail Code 28221T, 1200 Pennsylvania Ave. NW., Washington, DC 20460; and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Patrick Yellin, Monitoring, Assistance, and Media Programs Division, Office of Compliance, Mail Code 2227A, Environmental Protection Agency, 1200 Pennsylvania Ave. NW., Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov or in person at the EPA Docket Center, EPA WJC West, Room 3334, 1301 Constitution Ave. NW., Washington, DC. The telephone number for the Docket Center is 202-566-1744. For additional information about EPA's public docket, visit: http://www.epa.gov/dockets.

Abstract: The National Emission Standards for Hazardous Air Pollutants (NESHAP) for Plating and Polishing Area Sources regulations apply to respondents that are plating and polishing facilities engaged in any of the following processes: Non-chromium electroplating; electroless or non-electrolytic plating; other non-electrolytic metal coating processes such as chromate conversion coating, nickel acetate sealing, sodium dichromate sealing, manganese phosphate coating, thermal spraying; dry mechanical polishing of finished metals and formed products after plating or thermal spraying, electroforming, and electro-polishing. New facilities include those that commenced construction or reconstruction after the date of proposal. The required annual reports are used to determine periods of excess emissions, identify problems at the facility, verify operation/maintenance procedures and for compliance determinations. This information is also collected to assure compliance with 40 CFR part 63, subpart WWWWWW.

Form Numbers: None.

Respondents/affected entities: Owners and operators of plating and polishing facilities.

Respondent's obligation to respond: Mandatory (40 CFR part 63, subpart WWWWWW).

Estimated number of respondents: 2,900 (total).

Frequency of response: Initially and annually.

Total estimated burden: 64,315 hours (per year). Burden is defined at 5 CFR 1320.3(b).

Total estimated cost: $6,304,966 (per year), which includes $8,314 in annualized capital/start-up costs and 0 in operation & maintenance costs.

Changes in the Estimates: There is an increase of 31,208 hours in the total estimated respondent burden compared with the ICR currently approved by OMB. The change in burden and cost estimates occurred as a result of updating the burden tables to accurately reflect the reporting and recordkeeping requirements of the rule.

Courtney Kerwin,
Acting Director, Collection Strategies Division.

[FR Doc. 2015-07028 Filed 3-26-15; 8:45 am]

BILLING CODE 6560-50-P